DEPARTMENT OF COMMERCE

International Trade Administration

[A-570-007]

Continuation of Antidumping Duty Order: Barium Chloride From The People's Republic of China

AGENCY: Import Administration, International Trade Administration, Department of Commerce.

ACTION: Notice of continuation of antidumping duty order: barium chloride from The People's Republic of China.

SUMMARY: The Department of Commerce (“the Department”) has determined that revocation of the antidumping duty order on barium chloride from The People's Republic of China (“PRC”), would be likely to lead to continuation or recurrence of dumping. Therefore the Department is publishing notice of the continuation of the antidumping duty order on barium chloride from the PRC.

EFFECTIVE DATE: August 5, 2004.

FOR FURTHER INFORMATION CONTACT: Martha V. Douthit, Office of Policy, Import Administration, International Trade Administration, U.S. Department of Commerce, 14th Street and Constitution Ave., NW., Washington, DC 20230; telephone: (202) 482-5050.

SUPPLEMENTARY INFORMATION:

Background

On February 2, 2004, the Department initiated and the International Trade Commission (“ITC”) instituted a sunset review of the antidumping duty order on barium chloride from The People's Republic of China (“PRC”), pursuant to section 751(c) of the Act.¹ As a result of its review, the Department found that revocation of the antidumping duty order would be likely to lead to continuation or recurrence of dumping and notified the ITC of the magnitude of the margins likely to prevail were the order to be revoked.² On July 23, 2004, the ITC determined pursuant to section 751(c) of the Act, that revocation of the antidumping duty order on barium chloride from the PRC would be likely to lead to continuation or recurrence of material injury to an industry in the United States within a reasonably foreseeable time.³

¹ See Initiation of Five-year (“Sunset”) Reviews, 69 FR 50 (January 2, 2004).

² See Barium Chloride From The People's Republic of China; Final Results of the Sunset Review of Antidumping Duty Order, 69 FR 3171 (June 7, 2004).

³ See Barium Chloride From China, 69 FR 44059 (July 23, 2004), and USITC Publication 3702 (July 2004) (Second Review), Investigation No. 731-TA-149.

Scope of the Order

The merchandise covered by this order is barium chloride, a chemical compound having the formula BaCl2 or BaCl2-2H2 0, currently classifiable under item 2827.38.00 of the Harmonized Tariff Schedules (HTS). HTS items numbers are provided for convenience and customs purposes. The written descriptions remain dispositive.

Determination

As a result of the determinations by the Department and ITC that revocation of this antidumping duty order would be likely to lead to continuation or recurrence of dumping and material injury to an industry in the United States, pursuant to section 751(d)(2) of the Act, the Department hereby orders the continuation of the antidumping duty order on barium chloride from the PRC. The effective date of continuation of this order will be the date of publication in the Federal Register of this Notice of Continuation. Pursuant to sections 751(c)(2) and 751(c)(6) of the Act, the Department intends to initiate the next five-year review of this order not later than July 2009.

Dated: July 30, 2004.
Joseph A. Spetrini,
Acting Assistant Secretary for Import Administration.

[FR Doc. 04-17933 Filed 8-4-04; 8:45 am]

BILLING CODE 3510-DS-P